DEPARTMENT OF HEALTH AND HUMAN SERVICES

Health Care Financing Administration

[Document Identifier: HCFA-10003]

Agency Information Collection Activities: Proposed Collection; Comment Request

AGENCY: Health Care Financing Administration.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: Medicare + Choice Beneficiary Appeal Notices, “Notices of Denial of Medical Services,” “Notice of Denial of Request for Payment” and Supporting Regulations in 42 CFR 422.568.

Form No.: HCFA-10003 (OMB# 0938-NEW).

Use: This collection includes two Medicare + Choice appeal notices, Denial of Service and Denial of Payment. Pursuant to the Social Security Act Section 1852(g)(1)(B), M+C organizations are required to issue notices to Medicare managed care beneficiaries when a request for either medical service or payment is denied. Additionally, the notices inform beneficiaries of their right to file an appeal.

All M+C organizations will be required to use these forms. Neither the Health Care Financing Administration (HCFA) nor the M+C organizations will use such notices to collect and analyze data on M+C beneficiary appeals. They are for information purposes only.

Frequency: On occasion.

Affected Public: Business or other for-profit and Individuals or Households.

Number of Respondents: 29,892.

Total Annual Responses: 29,892.

Total Annual Hours: 2,994.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, Room N2-14-26, 7500 Security Boulevard, Baltimore, Maryland 21244-1850.

Dated: May 30, 2000.
John P. Burke III,
HCFA Reports Clearance Officer, HCFA Office of Information Services, Security and Standards Group, Division of HCFA Enterprise Standards.

[FR Doc. 00-14451 Filed 6-07-00; 8:45 am]

BILLING CODE 4120-03-M